DEPARTMENT OF DEFENSE

Office of the Secretary

Renewal of Department of Defense Federal Advisory Committee; Defense Business Board

AGENCY: Department of Defense (DoD).

ACTION: Renewal of Federal advisory committee.

SUMMARY: Under the provisions of the Federal Advisory Committee Act of 1972 (5 U.S.C. Appendix, as amended), the Government in the Sunshine Act of 1976 (5 U.S.C. 552b, as amended), and 41 CFR 102-3.50, the Department of Defense gives notice that it is renewing the charter for the Defense Business Board (hereafter referred to as the Board).

FOR FURTHER INFORMATION CONTACT: Jim Freeman, Deputy Committee Management Officer for the Department of Defense, 703-601-6128.

SUPPLEMENTARY INFORMATION: The Board is a discretionary federal advisory committee established to examine and advise on overall management and governance of the Department of Defense.

The Board shall provide the Secretary of Defense and the Deputy Secretary of Defense independent advice and recommendations on effective strategies for the implementation of best business practices on matters of interest to the Department of Defense.

The Board's membership shall not exceed twenty five. Members should have a proven track record of sound judgment in leading or governing large, complex private sector corporations or entities and a wealth of top-level, global business experience in the areas of executive management, corporate governance, audit and finance, human resources and compensation, economics, technology and healthcare.

The Board members, to include the Board's chairperson, shall be appointed by the Secretary of Defense, and their appointments will be renewed on an annual basis. Those members, who are not full-time or permanent part-time federal officers or employees, shall be appointed as experts and consultants under the authority of 5 U.S.C. 3109, and serve as special government employees. With the exception of travel and per diem for official travel, Board members shall serve without compensation.

The Chairperson of the Defense Policy Board and the Defense Science Board shall serve as non-voting ex-officio members of the Board.

The Director of the Office of Management and Budget and the Comptroller General of the General Accounting Office shall serve as non-voting observers of the Board.

The Secretary of Defense may invite other distinguished U.S. Government officers to serve as non-voting observers of the board, and appoint consultants, with special expertise, to assist the Board on an ad hoc basis. In addition, the Secretary of Defense may appoint experts and consultants, with special expertise, to assist the Board on an ad hoc basic. These experts and consultants, appointed under the authority of 5 U.S.C. 3109, shall serve as special government employees; however, they shall have no voting rights on the Board.

Non-voting ex-officio members, non-voting observers and those non-voting experts and consultants appointed by the Secretary of Defense shall not count toward the Board's total membership.

With DoD approval, the Board is authorized to establish subcommittees, as necessary and consistent with its mission. These subcommittees or working groups shall operate under the provisions of the Federal Advisory Committee Act of 1972, the Government in the Sunshine Act of 1976 (5 U.S.C. 552b, as amended), and other appropriate Federal statutes and regulations.

Such subcommittees or workgroups shall not work independently of the chartered Board, and shall report all their recommendations and advice to the Board for full deliberation and discussion. Subcommittees or workgroups have no authority to make decisions on behalf of the chartered Board nor can they report directly to the Department of Defense or any Federal officers or employees who are not Board members.

Subcommittee members, who are not Task Force members, shall be appointed in the same manner as the Task Force members.

The Board shall meet at the call of the Board's Designated Federal Officer, in consultation with the Chairperson. The estimated number of Board meetings is four per year.

The Designated Federal Officer, pursuant to DoD policy, shall be a full-time or permanent part-time DoD employee, and shall be appointed in accordance with established DoD policies and procedures. In addition, the Designated Federal Officer is required to be in attendance at all meetings, however, in the absence of the Designated Federal Officer, the Alternate Designated Federal Officer shall attend the meeting.

Pursuant to 41 CFR 102-3.105(j) and 102-3.140, the public or interested organizations may submit written statements to the Defense Business Board membership about the Board's mission and functions. Written statements may be submitted at any time or in response to the stated agenda of planned meeting of the Defense Business Board.

All written statements shall be submitted to the Designated Federal Officer for the Defense Business Board, and this individual will ensure that the written statements are provided to the membership for their consideration. Contact information for the Defense Business Board Designated Federal Officer can be obtained from the GSA's FACA Database— https://www.fido.gov/facadatabase/public.asp.

The Designated Federal Officer, pursuant to 41 CFR 102-3.150, will announce planned meetings of the Defense Business Board. The Designated Federal Officer, at that time, may provide additional guidance on the submission of written statements that are in response to the stated agenda for the planned meeting in question.

Dated: January 13, 2010.
Mitchell S. Bryman,
Alternate OSD Federal Register Liaison Officer, Department of Defense.

[FR Doc. 2010-855 Filed 1-19-10; 8:45 am]

BILLING CODE 5001-06-P